DEPARTMENT OF AGRICULTURE

Forest Service

Information Collection; Request for Comments; Application for Prospecting Permit

AGENCY: Forest Service, USDA.

ACTION: Notice.

SUMMARY: In accordance with the Paperwork Reduction Act of 1995, the Forest Service announces its intention to extend the information collection, FS-2800-14—Application for Prospecting Permit. The collected information enables the Forest Service to effectively and efficiently process oil and gas prospecting permits. Information will be collected from oil and gas companies, lessees, exploration companies, and independent, exploration operators expressing an interest in conducting geophysical operations on National Forest System lands.

EFFECTIVE DATES: Comments must be received in writing on or before August 28, 2000.

ADDRESSES: All comments should be addressed to Director, Minerals and Geology Management Staff, Attn: Mr. W. Dean Crandell, Fluid Minerals Program Manager, Forest Service, USDA, P.O. Box 96090, Washington, D.C. 20090-6090.

Comments also may be submitted via facsimile to (202) 205-1405 or by email to dcrandel@fs.fed.us.

The public may inspect comments received at the Office of the Director, Minerals and Geology Management Staff, Forest Service, USDA, 201 14th Street, S.W., Washington, D.C. 20024. Visitors are encouraged to call ahead to facilitate entrance into the building.

FOR FURTHER INFORMATION CONTACT:

W. Dean Crandell, Minerals and Geology Staff, at (202) 205-1405.

SUPPLEMENTARY INFORMATION:

Background

The Mineral Leasing Act (30 U.S.C. 181, as amended) authorizes the Forest Service to permit oil and gas companies, lessees, exploration companies, and independent, exploration operators to conduct geophysical exploration on or off lease on National Forest System lands.

Three regulations govern geophysical operations on National Forest System lands: (1) Title 36 of the Code of Federal Regulations, Part 251, Subpart E provides direction for geophysical operations on lease (operations within the legal land description of an oil and gas lease); (2) Title 36 of the Code of Federal Regulations, Part 251, Subpart A, § 251.15, provides direction for geophysical operations on reserved mineral rights (operations where the Forest Service manages the surface resources but the mineral resources (subsurface) is owned by someone other than the Federal government); and (3) Title 36 of the Code of Federal Regulations, Part 251, Subpart B, provides authorization for geophysical operations off lease (operations on all Forest Service managed lands not included in the preceding two categories).

Description of Information Collection

The following describes the information collection to be extended:

Title: FS-2800-14, Application for Prospecting Permit.

OMB Number: 0596-0089.

Expiration Date of Approval: August 31, 2000.

Type of Request: Extension of an information collection currently approved by the Office of Management and Budget.

Abstract: Forest Service personnel evaluate the collected information to ensure that oil and gas companies, lessees, exploration companies, or independent, energy exploration operators, applying to conduct geophysical operations on National Forest System lands, comply with the authorizing legislation and regulations described in the Supplementary Information section of this notice and with the National Environmental Policy Act (42 U.S.C. 4521-4347). The National Environmental Protection Act requires all land managers to consider an activity's impact to the environment and to determine the measures required to mitigate those impacts prior to making a decision on the request for a permit.

Oil and gas companies, lessees, exploration companies, or independent, energy exploration operators apply to conduct geophysical operations by completing the form, FS-2800-14, Application for Prospecting Permit, or by supplying the same information in a format of their choice.

Oil and gas companies, lessees, exploration companies, or independent, energy exploration operators are asked to provide information that includes the type and size of the proposed activity, the location of the proposed geophysical operation, the equipment that will be used in the proposed geophysical operation, the timing of the operation, and administrative information, such as the applicant's mailing address, the applicant's telephone number, and the applicant's responsible local operator or company representative.

Data gathered in this information collection are not available from other sources.

Estimate of Annual Burden: 15 minutes.

Type of Respondents: Oil and gas companies, mineral lessees, energy exploration companies, and independent, energy exploration operators.

Estimated Annual Number of Respondents: 20.

Estimated Annual Number of Responses per Respondent: 1.

Estimated Total Annual Burden on Respondents: 5 hours.

Comment is Invited

The agency invites comments on the following: (a) Whether the proposed collection of information is necessary for the stated purposes and the proper performance of the functions of the agency, including whether the information will have practical or scientific utility; (b) the accuracy of the agency's estimate of the burden of the proposed collection of information, including the validity of the methodology and assumptions used; (c) ways to enhance the quality, utility, and clarity of the information to be collected; and (d) ways to minimize the burden of the collection of information on respondents, including the use of automated, electronic, mechanical, or other technological collection techniques or other forms of information technology.

Use of Comments

All comments received in response to this notice, including names and addresses when provided, will become a matter of public record. Comments will be summarized and included in the request for Office of Management and Budget approval.

Dated: June 21, 2000.
Sally Collins,
Associate Deputy Chief, NFS.

[FR Doc. 00-16507 Filed 6-28-00; 8:45 am]

BILLING CODE 3410-11-P